DEPARTMENT OF ENERGY

Federal Energy Regulatory Commission

[Docket No. RD22-2-000]

Commission Information Collection Activities (FERC-725a, FERC-725d, FERC-725g, FERC-725m and FERC-725Z)

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, (FERC-725A, FERC-725D, FERC-725G, FERC-725M and FERC-725Z) the proposed retirement of FAC-010-3, the proposed FAC-011-4, FAC-014-3, IRO-008-3, TOP-001-6 and proposed corresponding revisions to FAC-003-5, PRC-002-3, PRC-023-5 and PRC-026-2 Reliability Standards.

DATES: Comments on the collection of information are due June 13, 2022.

ADDRESSES: You may submit comments (identified by Docket No. RD22-2-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC-725A, FERC-725D, FERC-725G, FERC-725M and FERC-725Z.

OMB Control No.: OMB Control No: 1902-244 (FERC-725A), 1902-247 (FERC-725D), 1902-252 (FERC-725G), 1902-263 (FERC-725M) and 1902-276 (FERC-725Z).

Type of Request: Three-year approval of the FERC-725A, FERC-725D, FERC-725G, FERC-725M and FERC-725Z information collection requirements with changes to the current reporting requirements as follows.

Abstract: The Electricity Modernization Act of 2005, which is Title XII of the Energy Policy Act of 2005 ¹ (EPAct 2005), was enacted into law. Reliability Standards that NERC proposes to the Commission may include Reliability Standards that are proposed by a Regional Entity to be effective in that region.² Section 215 of the FPA requires a Commission-certified ERO to develop mandatory and enforceable Reliability Standards, subject to Commission review and approval. Once approved, the Reliability Standards may be enforced by the ERO subject to Commission oversight or by the Commission independently.

¹ 16 U.S.C. 824d(a).

² 16 U.S.C. 824o(e)(4). A Regional Entity is an entity that has been approved by the Commission to enforce Reliability Standards under delegated authority from the ERO. See 16 U.S.C. 824o(a)(7) and (e)(4).

The number of respondents below is based on an estimate of the NERC compliance registry for balancing authority, transmission operator, generator operator, generator owner and reliability coordinator. The Commission based its paperwork burden estimates on the NERC compliance registry as of January 7, 2022. According to the registry, there are 98 balancing authorities (BAs), 325 transmission owners (TOs), 168 transmission operators (TOPs), 204 transmission planners (TPs), 1,068 generator owners (GOs), 945 generator operators (GOPs), 302 distribution providers (DPs), 63 planning coordinators (PCs) and 12 reliability coordinators (RCs). The estimates are based on the change in burden from the current standards to the standards approved in this Order. The Commission based the burden estimates on staff experience, knowledge, and expertise.

The estimates are based combination on one-time (years 1 and 2) and ongoing execution (year 3) obligations to follow the revised Reliability Standards.

The Project 2015-09 Establish and Communicate System Operating Limits Standard Drafting Team (SDT): (1) Developed proposed revisions to Reliability Standards and their applicable functional entities: FAC-011-4 (RC), FAC-014-3 (PC, RC, TO, TP), IRO-008-3 (RC), and TOP-001-6 (BA, TO, GO, DP); (2) proposed the retirement of FAC-010-3 (PA/PC) and developed corresponding revisions to FAC-003-5 (TO, GO), PRC-002-3 (RC, TO, GO), PRC-023-5 (TO, GO, DP, PC), and PRC-026-2 (TO, GO, PC) Reliability Standards to remove or replace references to system operating limits (SOLs) and interconnection reliability operating limits (IROLs) established by planning entities.

The developed proposed revisions to Reliability Standards are:

• FAC-011-4 is applicable to the RC and its purpose is to ensure that SOLs used in the reliable operation of the bulk electric system are determined based on an established RC methodology or methodologies. NERC clarified acceptable system performance criteria for the operations horizon and developed an SOL risk-based notification framework through the RC's SOL methodology.

• FAC-014-3 is applicable to the PC, RC, TOP and TP and its purpose is to ensure that SOLs used in the reliable operation of the bulk electric system are determined based on an established RC methodology or methodologies and that Planning Assessment performance criteria is coordinated with these methodologies. NERC removed references to planning horizon SOLs and IROLs and clearly delineate specific functional entity responsibility for determining and communicating each type of SOL used in operations.

• IRO-008-3 is applicable to the RC and requires RCs to perform analyses and assessments to prevent instability, uncontrolled separation, or cascading. NERC added a new requirement requiring a RC to use its SOL methodology when determining SOL exceedances for its analyses and assessments and further revised a requirement requiring the RC to use its SOL risk-based notification framework when communicating SOL or IROL exceedances.

• TOP-001-6 is applicable to the BA, TOP, GOP, and DP but the proposed revisions only impact the TOP. NERC added a new requirement requiring a TOP to use its RC SOL methodology when determining SOL exceedances and further revised a requirement requiring TOP notifications regarding SOL exceedances to be done according to the risk-based approach in the RC's SOL methodology.

NERC further proposes the retirement of currently effective Reliability Standard FAC-010-3 that requires PCs and TPs to establish SOLs for the planning horizon. The proposed retirement of FAC-010-3 is mainly due to its redundancy with currently effective TPL-001-4 Standard and new requirements in proposed FAC-014-3.

In addition, the proposed retirement of FAC-010-3 developed corresponding revisions to proposed Reliability Standards FAC-003-5, PRC-002-3, PRC-023-5, and PRC-026-2 as follows:

• FAC-003-5 is applicable to TOs and GOs and NERC proposes to modify Applicability Sections 4.2.2 and 4.3.1.2 of FAC-003-5 to replace references to “elements of an IROL under NERC Standard FAC-014 by the Planning Coordinator” with references to facilities:

“identified by the Planning Coordinator or Transmission Planner, per its Planning Assessment of the Near‐Term Transmission Planning Horizon as a Facility that if lost or degraded are expected to result in instances of instability, Cascading, or uncontrolled separation that adversely impacts the reliability of the Bulk Electric System for a planning event.”

• PRC-002-3 is applicable to the RC, TO and GO and NERC proposes to modify the applicability of the PRC-002-3 standard to remove PCs as a responsible entity subject to the standard and replace any references in the standard that would have included PCs with references to RCs. NERC concluded that the RC was the appropriate entity to carry out the duties that currently apply to PCs in certain interconnections, including the identification of BES elements that are part of an IROL or stability-related SOL.

• PRC-023-5 is applicable to the TO, GO, DP and PC and NERC proposes to modify Section B2 of Attachment B to PRC-023-5 as follows:

“B2. The circuit is selected by the Planning Coordinator or Transmission Planner based on Planning Assessments of the Near-Term Transmission Planning Horizon that identify instances of instability, Cascading, or uncontrolled separation, that adversely impact the reliability of the Bulk Electric System for planning events.“

Attachment B sets the criteria used to determine the circuits in a Planning Coordinator area for which Transmission Owners, Generator Owners, and Distribution Providers must comply with certain requirements in the standard applicable to protective relays.

• PRC-026-2 is applicable to the GO, PC and TO and NERC proposes modification to the PRC-026-2 standard, Requirement R1, Criteria 1, 2, and 4 to replace references to planning horizon SOLs with references to the TPL-001-4 Planning Assessment.

The Commission estimates that the NERC proposal, which would retire FAC-010-3, moves impacted and revised Reliability Standards without adding new obligations on registered entities resulting in a change in burden for industry of 128 hours. The proposed retirement of FAC-010-3 is mainly due to its redundancy with currently effective TPL-001-4 Standard and new requirements in proposed FAC-014-3. The Commission based the change in burden estimates on staff experience, knowledge, and expertise.

Proposed Changes Due to the Approval of NERC's Proposed Reliability Standards and the Retirement of FAC-010-3 in Docket No. RD22-2
Reliability standard | Type ³ and number of entity | Number of annual responses per entity | Total number of responses | Average number of burden hours per response | Total burden hours
| (1) | (2) | (1) * (2) = (3) | (4) | (3) * (4) = (5)
FERC-725D
FAC-010-3 ⁴ Retire (marked in red) | PA/PC (63) | 1 | (63) | (220.6 hrs.); ($19,192) | (13,898 hrs.); ($1,209,109).
FAC-010-2.1, R5 ⁵ (FERC-725D) | PA | 1 | (63) | (25.4 hrs.); ($2,209.8) | (1,600 hrs.); ($139,217).
Total Retirement for FAC-010-3 ⁶ | PA | 1 | (63) | (246) | (15,498 hrs.); ($1,348,326).
One Time Estimate Years 1 and 2:
FAC-011-4 | RC (12) | 1 | 12 | 176 hrs.; $15,312 | 2,112 hrs.; $183,744.
FAC-014-3 | RC (12) | 1 | 12 | 64 hrs.; $5,568 | 768 hrs.; $66,816.
FAC-014-3 | PA/PC (63) | 1 | 63 | 96 hrs.; $8,352 | 6,048 hrs.; $526,176.
FAC-014-3 | TP (204) | 1 | 204 | 96 hrs.; $8,352 | 19,584 hrs.; $1,703,808.
FAC-014-3 | TOP (168) | 1 | 168 | 32 hrs.; $2,784 | 5,376 hrs.; $467,712.
Ongoing Estimate Year 3 ongoing:
FAC-011-4 | RC (12) | 1 | 12 | 16 hrs.; $1,392 | 192 hrs.; $16,704.
FAC-014-3 | RC (12) | 1 | 12 | 16 hrs.; $1,392 | 192 hrs.; $16,704.
FAC-014-3 | PA/PC (63) | 1 | 63 | 16 hrs.; $1,392 | 1,008 hrs.; $87,696.
FAC-014-3 | TP (204) | 1 | 204 | 16 hrs.; $1,392 | 3,264 hrs.; $334,080.
FAC-014-3 | TOP (168) | 1 | 168 | 16 hrs.; $1,392 | 2,688 hrs.; $233,856.
Sub-Total for FERC-725D |  |  | 918 |  | 41,232hrs; $3,637,296.
FERC-725M ⁷
One Time Estimate Years 1 and 2:
FAC-003-5 | TO (325) | 4 | 1,300 | 8 hrs.; $696 | 10,400 hrs.; $904,800.
FAC-003-5 | GO (1068) | 4 | 4,272 | 8 hrs.; $696 | 34,176 hrs.; $2,973,312.
Ongoing Estimate Year 3 ongoing:
Sub-Total for FERC-725M |  |  | 5,572 |  | 44,576hrs; $3,878,112.
FERC-725G
One Time Estimate Years 1 and 2:
PRC-002-3 ⁸ | RC (12) | 1 | 12 | 32 hrs.; $2,784 | 384 hrs.; $33,408.
PRC-002-3 ⁹ Retired (marked in red) | PA/PC (35) | 1 | (35) | (32 hrs.); ($2,784) | (2,016 hrs.); ($175,392).
PRC-023-5 ¹⁰ | PA/PC (63) | 1 | 63 | 32 hrs.; $2,784 | 2,016 hrs.; $175,392.
PRC-026-2 ¹¹ | PA/PC (63) | 1 | 63 | 32 hrs.; $2,784 | 2,016 hrs.; $175,392.
Ongoing Estimate Year 3 ongoing:
PRC-002-3 | RC (12) | 1 | 12 | 16 hrs.; $1,392 | 192 hrs.; $16,704.
Sub-Total for FERC-725G |  |  | 150 |  | 4,608hrs; $400,896.
FERC-725Z
One Time Estimate Years 1 and 2:
IRO-008-3 | RC (12) | 1 | 12 | 32 hrs.; $2784 | 384 hrs.; $33,408.
Ongoing Estimate Year 3 ongoing:
IRO-008-3 | RC (12) | 1 | 12 | 16 hrs.; $1,392 | 144 hrs.; $16,704.
Sub-Total for FERC-725Z |  |  | 24 |  | 528 hrs.; $50,112.
FERC-725A
One Time Estimate Years 1 and 2:
TOP-001-6 ¹² | TOP (168) | 1 | 168 | 32 hrs.; $2,784 | 5,376 hrs.; $467,712.
Ongoing Estimate Year 3 ongoing:
TOP-001-6 | TOP (168) | 1 | 168 | 16 hrs.; $1,392 | 2,688hrs; $233,856.
Sub-Total for FERC-725A |  |  | 336 |  | 8,064 hrs.; $701,568.
Total Reductions Due to Docket No. RD22-2-000 |  |  |  |  | 99,008 hrs.; $8,667,984.

Titles: FERC-725A, Mandatory Reliability Standard: TOP-001-6; FERC-725D, Mandatory Reliability Standards for the Bulk Power System: Reliability Standards FAC-010, FAC-011, FAC-014; FERC-725G, Mandatory Reliability Standards for Bulk-Power System: Reliability Standard PRC; FERC-725Z, Mandatory Reliability Standards for the Bulk-Power System: Reliability Standard IRO; FERC-725M, Mandatory Reliability Standards:

³ RC=Reliability Coordinator; BA=Balancing Authority; TP=Transmission Planner; TOP=Transmission Operator; TO=Transmission Owner; GO=Generator Owner; DP=Distribution Provider; PA/PC=Planning Coordinator; and RC=Reliability Coordinator.

⁴ FAC-010-2, FAC-011-2 and FAC-014 -2 were all approved by the Commission in ((Docket No. IC14-5-000 COMMISSION INFORMATION COLLECTION ACTIVITIES (FERC-725D); COMMENT REQUEST; EXTENSION (February 21, 2014)) with a burden of 138,979 hours. Staff estimates that the PC burden under FAC-010-3 from that estimate is 10 percent of the total or 13,898 hours. FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm).

⁵ In Docket No. RM13-8-000 FERC 725D OMB Control: From 1902-0247 for the FAC-010-2.1 Requirement R5 burden of 1,600hrs should be retired with full retirement of FAC-010-3.

⁶ The total of manhours associated FAC-010-3 equals the sum of 13,898 hrs. + 1,600 hrs. = 15,498 hrs.

⁷ Proposed revision is a one-time change to align updated terminology in the NERC Standards.

⁸ Proposed revision adds burden to the RC only.

⁹ The removal of the PC from PRC-002-3 is a one-time reduction in burden. Eastern and ERCOT interconnection impacted.

¹⁰ Proposed revision adds burden to the PA/PC only and is a one-time change to align updated terminology in the NERC Standards.

¹¹ Proposed revision adds burden to the PA/PC only and is a one-time change to align updated terminology in the NERC Standards.

¹² Proposed revision adds burden to the TOP only.

Action: Changes to Existing Collections of Information, FERC-725A, FERC-725G, FERC-725M, FERC-725Z, 725D, and Elimination of Collections of Information.

OMB Control Nos: 1902-0244 (FERC-725A); 1902-0247 (FERC-725D); 1902-0252 (FERC-725G); 1902-0263 (FERC-725M) and 1902-0276 (FERC-725Z).

Respondents: Business or other for profit, and not for profit institutions.

Frequency of Responses: On occasion (and proposed for deletion).

Necessity of the Information: This proceeding approves the retirement of FAC-010-3 (System Operating Limits Methodology for the Planning Horizon) Reliability Standards. Reliability Standards FAC-011-4 (System Operating Limits Methodology for the Operations Horizon), FAC-014-3 (Establish and Communicate System Operating Limits), FAC-003-5 (Transmission Vegetation Management), PRC-002-3 (Disturbance Monitoring and Reporting Requirements), PRC-023-5 (Transmission Relay Load-ability), PRC-026-2 (Transmission Relay Load-ability), IRO-008-3 (Reliability Coordinator Operational Analyses and Real-time Assessments), TOP-001-6 (Transmission Operations) are part of the implementation of the Congressional mandate of the Energy Policy Act of 2005 to develop mandatory and enforceable Reliability Standards to better ensure the reliability of the nation's Bulk Power system. Specifically, the revised standards ensure generating resources are prepared for local cold weather events and that entities will effectively communicate information need operating the Bulk Power System.

Internal review: The Commission has reviewed NERC's proposal and determined that its action is necessary to implement section 215 of the FPA. The Commission has assured itself, by means of its internal review, that there is specific, objective support for the burden reduction estimates associated with the information requirements approved for retirement.

Interested persons may obtain information on the reporting requirements by contacting the Federal Energy Regulatory Commission, Office of the Executive Director, 888 First Street NE, Washington, DC 20426 [Attention: Ellen Brown, email: DataClearance@ferc.gov, phone: (202) 502-8663, fax: (202) 273-0873].

Comments concerning the information collections and requirements approved for retirement in this Final Rule and the associated burden estimates, should be sent to the Commission in this docket and may also be sent to the Office of Management and Budget, Office of Information and Regulatory Affairs [Attention: Desk Officer for the Federal Energy Regulatory Commission]. For security reasons, comments should be sent by email to OMB at the following email address: oira_submission@omb.eop.gov. Please refer to the appropriate OMB Control Number(s) and Docket No. RD22-2-000 in your submission.

Environmental Analysis

The Commission is required to prepare an Environmental Assessment or an Environmental Impact Statement for any action that may have a significant adverse effect on the human environment.¹³ The Commission has categorically excluded certain actions from this requirement as not having a significant effect on the human environment. Included in the exclusion are rules that are clarifying, corrective, or procedural or that do not substantially change the effect of the regulations being amended.¹⁴ The actions approved here fall within this categorical exclusion in the Commission's regulations.

¹³ Regulations Implementing the National Environmental Policy Act of 1969, Order No. 486, 52 FR 47897 (Dec. 17, 1987), FERC Stats. & Regs., Regulations Preambles 1986-1990 ¶ 30,783 (1987).

¹⁴ 18 CFR 380.4(a)(2)(ii).

Document Availability

In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE, Room 2A, Washington, DC 20426.

From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov.

By direction of the Commission.
Dated: April 8, 2022.
Kimberly D. Bose,
Secretary.

[FR Doc. 2022-07987 Filed 4-13-22; 8:45 am]

BILLING CODE 6717-01-P